DEPARTMENT OF HEALTH AND HUMAN SERVICES

Administration for Children and Families

Proposed Information Collection Activity; Runaway and Homeless Youth—Homeless Management Information System (RHY-HMIS; Office of Management and Budget #0970-0573)

AGENCY: Family and Youth Services Bureau, Administration for Children and Families, Department of Health and Human Services.

ACTION: Request for public comments.

SUMMARY: The Family and Youth Services Bureau's Runaway and Homeless Youth (RHY) Program is requesting a 3-year extension of the Runaway and Homeless Youth—Homeless Management Information System (RHY-HMIS) data collection efforts (OMB #0970-0573, expiration 07/31/2024). There are no changes requested to the data elements.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The RHY Program has a requirement to collect information from all youth who receive shelter and supportive services with RHY funding. In April 2015, the Administration on Children, Youth and Families, through a formal Memorandum of Understanding, integrated the RHY data collection with the U.S. Department of Housing and Urban Development's (HUD) HMIS and HUD's data standards along with other federal partners. HUD has OMB approval for HUD's data standards and ACF has approval under a separate OMB number for the RHY data elements. The data collection effort includes universal data elements that are collected by all federal partners and RHY program specific elements, which are tailored to the RHY Program using HUD's HMIS.

Respondents: Youth who receive emergency and longer-term shelter and supportive services under RHY funding.

Annual Burden Estimates
Instrument | Total number of respondents | Total number of responses per respondent | Average burden hours per response | Total burden hours | Annual burden hours
RHY-HMIS: Basic Center Program (Intake) | 123,000 | 1 | 0.38 | 46,740 | 15,580
RHY-HMIS: Basic Center Program (Exit) | 123,000 | 1 | 0.33 | 40,590 | 13,530
RHY-HMIS: Transitional Living Program (including Maternity Group Home program and TLP Demonstration Programs; Intake) | 24,000 | 1 | 0.38 | 9,120 | 3,040
RHY-HMIS: Transitional Living Program (including Maternity Group Home program and TLP Demonstration Programs; Exit) | 24,000 | 1 | 0.33 | 7,920 | 2,640
RHY-HMIS: Street Outreach Program (Contact) | 108,000 | 1 | 0.5 | 54,000 | 18,000
RHY-HMIS: Street Outreach Program (Engagement) | 30,000 | 1 | 0.28 | 8,400 | 2,800
RHY Funded Grantees (data entry) | 308,225 | 2 | 0.36 | 221,922 | 73,974
RHY Funded Grantees (data submission)—FY24 | 675 | 2 | 0.16 | 216 | 72
RHY Funded Grantees (data submission)—FY25 & FY26 | 675 | 8 | 0.16 | 864 | 288
Estimated Total Annual Burden Hours |  |  |  |  | 129,924

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Reconnecting Homeless Youth Act of 2008 (Public Law 110-378) through Fiscal Year (FY) 2013 and reauthorized by the Juvenile Justice Reform Act through FY 2019.

Mary B. Jones,
ACF/OPRE Certifying Officer.

[FR Doc. 2024-00924 Filed 1-17-24; 8:45 am]

BILLING CODE 4184-04-P